DEPARTMENT OF ENERGY

Federal Energy Regulatory Commission

Combined Notice of Filings #2

Take notice that the Commission received the following electric corporate filings:

Docket Numbers: EC16-178-000.

Applicants: Wisconsin River Power Company, Wisconsin Public Service Corporation, Wisconsin Power and Light Company.

Description: Application of Wisconsin River Power Company, et al. for Approval of Transaction Under Section 203(a)(1) of the Federal Power Act.

Filed Date: 9/9/16.

Accession Number: 20160909-5322.

Comments Due: 5 p.m. ET 9/30/16.

Take notice that the Commission received the following electric rate filings:

Docket Numbers: ER10-3140-026.

Applicants: Birchwood Power Partners, L.P., Shady Hills Power Company, L.L.C., EFS Parlin Holdings, LLC, Inland Empire Energy Center, LLC, Homer City Generation, L.P.

Description: Supplement to June 28, 2016 Triennial Market Power Analysis of Inland Empire Energy Center, LLC.

Filed Date: 9/9/16.

Accession Number: 20160909-5198.

Comments Due: 5 p.m. ET 11/8/16.

Docket Numbers: ER11-3013-006; ER10-2870-007; ER10-2865-007.

Applicants: Coolidge Power LLC, TransCanada Power Marketing Ltd, TransCanada Energy Sales Ltd.

Description: Second Amendment to June 28, 2016 Updated Market Power Analysis for the Southwest Region of the TransCanada Entities et al.

Filed Date: 9/9/16.

Accession Number: 20160909-5226.

Comments Due: 5 p.m. ET 9/30/16.

Docket Numbers: ER16-2571-000.

Applicants: New York State Electric & Gas Corporation, New York Independent System Operator, Inc.

Description: § 205(d) Rate Filing: SA No. 2298 CRA between NYSEG and Penelec to be effective 8/19/2016.

Filed Date: 9/9/16.

Accession Number: 20160909-5199.

Comments Due: 5 p.m. ET 9/30/16.

Docket Numbers: ER16-2572-000.

Applicants: American Transmission Systems, Incorporated, Metropolitan Edison Company, Pennsylvania Electric Company, PJM Interconnection, L.L.C.

Description: § 205(d) Rate Filing: Original Service Agreement Nos. 4480, 4481, 4482, 4483, 4484, 4532, and 4533 to be effective 10/1/2016.

Filed Date: 9/9/16.

Accession Number: 20160909-5235.

Comments Due: 5 p.m. ET 9/30/16.

Docket Numbers: ER16-2573-000.

Applicants: PJM Interconnection, L.L.C.

Description: § 205(d) Rate Filing: Service Agreement No. 4527 and Notice of Cancellation to be effective 8/10/2016.

Filed Date: 9/9/16.

Accession Number: 20160909-5242.

Comments Due: 5 p.m. ET 9/30/16.

Docket Numbers: ER16-2574-000.

Applicants: PJM Interconnection, L.L.C.

Description: § 205(d) Rate Filing: Notice of Cancellation of Service Agreement No. 3780, Queue No. W4-045 to be effective 7/26/2016.

Filed Date: 9/9/16.

Accession Number: 20160909-5250.

Comments Due: 5 p.m. ET 9/30/16.

Docket Numbers: ER16-2575-000.

Applicants: New England Power Company.

Description: Tariff Cancellation: Notice of Cancellation of Superseded Agreements with Wheelabrator Saugus Inc. to be effective 11/9/2016.

Filed Date: 9/9/16.

Accession Number: 20160909-5270.

Comments Due: 5 p.m. ET 9/30/16.

Docket Numbers: ER16-2576-000.

Applicants: UGI Energy Services, Inc.

Description: § 205(d) Rate Filing: Notice of Succession to be effective 10/1/2013.

Filed Date: 9/9/16.

Accession Number: 20160909-5295.

Comments Due: 5 p.m. ET 9/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2016.
Nathaniel J. Davis, Sr.,
Deputy Secretary.

[FR Doc. 2016-22202 Filed 9-14-16; 8:45 am]

BILLING CODE 6717-01-P